ENVIRONMENTAL PROTECTION AGENCY

40 CFR Part 180

[OPP-2003-0039; FRL-7291-7]

Pesticides; Tolerance Exemptions for Polymers

AGENCY: Environmental Protection Agency (EPA).

ACTION: Direct final rule.

SUMMARY: EPA is taking direct final rule action to shift certain polymeric substances from one section of the Code of Federal Regulations (CFR) to the section of CFR which lists the pesticide chemicals that are exempt from the requirement of a tolerance because they have been determined to meet the criteria identifying polymers that are of low risk.

DATES: This direct final rule is effective on May 27, 2003, without further notice, unless EPA receives a relevant adverse comment by March 28, 2003. If EPA receives a relevant adverse comment, EPA will publish a timely withdrawal in the Federal Register informing the public that this direct final rule will not take effect.

FOR FURTHER INFORMATION CONTACT: Kathryn Boyle, Registration Division (7505C), Office of Pesticide Programs, Environmental Protection Agency, 1200 Pennsylvania Ave., NW., Washington, DC 20460-0001; telephone number: 703-305-6304; fax number: 703-305-0599; e-mail address: boyle.kathryn@epa.gov.

SUPPLEMENTARY INFORMATION:

I. General Information

A. Does this Action Apply to Me?

You may be affected by this action if you are an agricultural producer, food manufacturer, or pesticide manufacturer. Potentially affected categories and entities may include, but are not limited to:

• Crop production (NAICS code 111)

• Animal production (NAICS code 112)

• Food manufacturing (NAICS code 311)

• Pesticide manufacturing (NAICS code 32532)

• Antimicrobial Pesticide (NAICS code 32561)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies Of This Document and Other Related Information?

1. Docket. EPA has established an official public docket for this action under docket identification (ID) number OPP-2003-0039. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic Access. You may access this Federal Register document electronically through the EPA Internet under the “Federal Register” listings at http://www.epa.gov/fedrgstr/. A frequently updated electronic version of 40 CFR part 180 is available at http://www.access.gpo.gov/nara/cfr/cfrhtml_00/Title_40/40cfr180_00.html, a beta site currently under development.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in Docket ID No. OPP-2003-0039. The system is an “anonymous access” system, which means EPA will not know your identity, e-mail address, or other contact information unless you provide it in the body of your comment.

ii. E-mail. Comments may be sent by electronic mail (e-mail) to opp-docket@epa.gov, Attention Docket ID No. OPP-2003-0039. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By Mail. Send your comments to: Public Information and Records Integrity Branch (PIRIB), Office of Pesticide Programs (OPP), Environmental Protection Agency, Mailcode: 7502C, 1200 Pennsylvania Ave., NW, Washington, DC, 20460, Attention Docket ID No. OPP-2003-0039.

3. By Hand Delivery or Courier. Deliver your comments to: Public Information and Records Integrity Branch (PIRIB), Office of Pesticide Programs (OPP), Environmental Protection Agency, Rm. 119, Crystal Mall #2, 1921 Jefferson Davis Highway, Arlington, VA., Attention Docket ID No. OPP-2003-0039. Such deliveries are only accepted during the Docket's normal hours of operation as identified in Unit I.A.1.

D. How Should I Submit CBI To the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified in the FOR FURTHER INFORMATION CONTACT section.

II. Authority

A. What is the Agency's Authority for Taking this Action?

This direct final rule is issued pursuant to section 408(e) of FFDCA, as amended by the FQPA (21 U.S.C. 346a(e)). Section 408 of FFDCA authorizes the establishment of tolerances, exemptions from the requirement of a tolerance, modifications in tolerances, and revocation of tolerances for residues of pesticide chemicals in or on raw agricultural commodities and processed foods. Without a tolerance or tolerance exemption, food containing pesticide residues is considered to be unsafe and therefore “adulterated” under section 402(a) of the FFDCA. If food containing pesticide residues is found to be adulterated, the food may not be distributed in interstate commerce (21 U.S.C. 331(a) and 342(a)).

B. Why is EPA Issuing this as a Direct Final Rule?

EPA is issuing this action as a direct final rule without prior proposal because the Agency believes that this action is not controversial and is not likely to result in any adverse comments, inasmuch as this action simply shifts existing tolerance exemptions to a new section in 40 CFR part 180. It will not alter the quantity or nature of residues that might lawfully be present in food or feed.

This rule is effective on May 27, 2003 without further notice, unless EPA receives adverse comment by March 28, 2003. If, however, EPA receives a relevant adverse comment during the comment period, then EPA will publish a timely withdrawal in the Federal Register informing the public that the rule will not take effect. EPA will also publish a notice of proposed rulemaking in a future edition of the Federal Register. EPA will address the comments on the direct final rule as part of that proposed rulemaking.

III. What Action is the Agency Taking?

In the Federal Register of May 24, 2002, (67 FR 36525) (FRL-6834-2) the Agency published a direct final rule establishing a new section 40 CFR 180.960 to contain exemptions from the requirement of a tolerance for polymers that under reasonably foreseeable circumstances will pose no appreciable risks to human health.

The Agency is now shifting to 40 CFR 180.960 those existing tolerance exemptions for certain polymers that have previously been determined to meet the criteria of a low risk polymer. All of these polymers can be used as an inert ingredient in any pesticide product including antimicrobial pesticide products providing that such use is in accordance with good agricultural or manufacturing practices. As part of this shifting of tolerance exemptions from one part of the CFR to another, the Agency has combined as appropriate two or more chemical names under a single name and has eliminated duplicative entries.

IV. Statutory and Executive Order Reviews

This direct final rule merely reorganizes existing exemptions in 40 CFR part 180, shifting them from one section to another within the same part. The Agency is acting on its own initiative under FFDCA section 408(e) in shifting these existing tolerance exemptions to a new section of part 180. This direct final rule has no substantive effect, and is not expected to have any adverse impact, or otherwise impose any new requirements. As such, this action is not a “significant regulatory action” subject to review by the Office of Management and Budget (OMB), under Executive Order 12866, entitled Regulatory Planning and Review (58 FR 51735, October 4, 1993).

This direct final rule does not contain any information collections subject to OMB approval under the Paperwork Reduction Act (PRA), 44 U.S.C. 3501 et seq.

Under section 605(b) of the Regulatory Flexibility Act (RFA) (5 U.S.C. 601 et.seq.), the Agency hereby certifies that this action will not have a significant economic impact on a substantial number of small entities. As noted above, this action will have no substantive or procedural effect on the tolerance exemptions affected, and therefore, will not adversely impact small entities. However, by grouping tolerance exemptions for polymers that have been determined to be low risk in one location in the CFR, this action will make it easier for small entities to efficiently use EPA's tolerance regulations.

Since this direct final rule simply shifts existing tolerance exemptions within part 180 without imposing any requirements, it does not impose any enforceable duty or contain any unfunded mandate as described under Title II of the Unfunded Mandates Reform Act of 1995 (UMRA) (Public Law 104-4).

In addition, this action will not have a substantial direct effect on States, on the relationship between the national government and the States, or on the distribution of power and responsibilities among the various levels of government, as specified in Executive Order 13132, entitled Federalism (64 FR 43255, August 10, 1999). This direct final rule directly regulates growers, food processors, food handlers and food retailers, not States. This action does not alter the relationships or distribution of power and responsibilities established by Congress in the preemption provisions of FFDCA section 408(n)(4).

For these same reasons, this direct final rule does not have any “tribal implications” as described in Executive Order 13175, entitled Consultation and Coordination with Indian Tribal Governments (65 FR 67249, November 6, 2000). This rule will not have substantial direct effects on tribal governments, on the relationship between the Federal government and Indian tribes, or on the distribution of power and responsibilities between the Federal government and Indian tribes, as specified in Executive Order 13175. Thus, Executive Order 13175 does not apply to this rule.

Since this direct final rule is not a “significant regulatory action” as defined by Executive Order 12866, it does not require OMB review or any Agency action under Executive Order 13045, entitled Protection of Children from Environmental Health Risks and Safety Risks (62 FR 19885, April 23, 1997), and is not subject to Executive Order 13211, Actions Concerning Regulations That Significantly Affect Energy Supply, Distribution, or Use (66 FR 28355, May 22, 2001).

This action does not involve any technical standards that would require Agency consideration of voluntary consensus standards pursuant to section 12(d) of the National Technology Transfer and Advancement Act of 1995 (NTTAA), Public Law 104-113, section 12(d) (15 U.S.C. 272 note).

Nor does it require any special considerations under Executive Order 12898 entitled Federal Actions to Address Environmental Justice in Minority Populations and Low-Income Populations (59 FR 7629, February 16, 1994) or Executive Order 12630, entitled Governmental Actions and Interference with Constitutionally Protected Property Rights (53 FR 8859, March 15, 1988).

In issuing this direct final rule, EPA has taken the necessary steps to eliminate drafting errors and ambiguity, minimize potential litigation, and provide a clear legal standard for affected conduct, as required by section 3 of Executive Order 12988, entitled Civil Justice Reform (61 FR 4729, February 7, 1996).

IV. Congressional Review Act

The Congressional Review Act, 5 U.S.C. 801 et seq., as added by the Small Business Regulatory Enforcement Fairness Act of 1996, generally provides that before a rule may take effect, the Agency promulgating the rule must submit a rule report, which includes a copy of the rule, to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 180

Environmental protection, Administrative practice and procedure, Agricultural commodities, Pesticides and pests, Reporting and recordkeeping requirements.

Dated: February 13, 2003.
Peter Caulkins,
Acting Director, Registration Division, Office of Pesticides Programs.

Therefore, 40 CFR chapter I is amended as follows:

PART 180—[AMENDED]

1. The authority citation for part 180 continues to read as follows:

Authority: 21 U.S.C. 321(q), 346 (a) and 374.

§ 180.960 [Amended]

2. Section 180.960 is amended by adding alphabetically the following entries to the table.

Polymer | CAS No.
Acetic acid ethenyl ester, polymer with ethenol and (α)-2-propenyl-(ω)-hydroxypoly (oxy-1,2-ethanediyl) minimum number average molecular weight (in amu), 15,000 | 137091-12-4
Acrylic acid, polymerized, and its ethyl and methyl esters | None
Acrylic acid-sodium acrylate-sodium-2-methylpropanesulfonate copolymer, minimum average molecular weight (in amu), 4,500 | 97953-25-8
Acrylic acid-stearyl methacrylate copolymer, minimum number average molecular weight (in amu), 2,500 | 27756-15-6
* * * * *
Acrylonitrile-butadiene copolymer conforming to 21 CFR 180.22, minimum average molecular weight (in amu), 1,000. | 9003-18-3
Acrylonitrile-styrene-hydroxypropyl methacrylate copolymer, minimum number average molecular weight (in amu), 447,000 | None
* * * * *
Alkyl (C12-C20) methacrylate-methacrylic acid copolymer, minimum molecular weight (in amu), 11,900 | None
3,5-Bis(6-isocyanatohexyl)-2H-1,3,5-oxadiazine-2,4,6-(3H,5H)-trione, polymer with diethylenetriamine, minimum number average molecular weight (in amu), 1,000,000 | 87823-33-4
Butadiene-styrene copolymer | None
1,4-Butanediol-methylenebis(4-phenylisocyanate)-poly(tetramethylene glycol) copolymer, minimum molecular weight (in amu) 158,000 | 9018- 04-6
* * * * *
2-Butenedioic acid (Z)-, polymer with ethenol and ethenyl acetate, sodium salt, minimum number average molecular weight (in amu), 75,000 | 139871-83-3
α-Butyl-ω-hydroxypoly(oxypropylene) block polymer with poly(oxyethylene); molecular weight (in amu), 2,400-3,500 | None
Castor oil, polyoxyethylated; the poly(oxyethylene) content averages 5-54 moles | None
Chlorinated polyethylene | 64754-90-1
Cross-linked nylon-type polymer formed by the reaction of a mixture of sebacoyl chloride and polymethylene polyphenylisocycanate with a mixture of ethylenediamine and diethylenetriamine | None
Cross-linked polyurea-type encapsulating polymer | None
* * * * *
Docosyl methacrylate-acrylic acid copolymer, or docosyl methacrylate-octadecyl methacrylate-acrylic acid copolymer, minimum number average molecular weight (in amu), 3,000 | None
1,12-Dodecanediol dimethacrylate polymer, minimum molecular weight (in amu), 100,000 | None
* * * * *
Ethylene glycol dimethyacrylate-lauryl methacrylate copolymer, minimum molecular weight (in amu), 100,000 | None
Ethylene glycol dimethacrylate polymer, minimum molecular weight (in amu), 100,000 | None
Fumaric acid-isophthalic acid-styrene-ethylene/propylene glycol copolymer, minimum average molecular weight (in amu), 1 x 10¹⁸ | None
Hexadecyl acrylate-acrylic acid copolymer, hexadecyl acrylate-butyl acrylate-acrylic acid copolymer, or hexadecyl acrylate-dodecyl acrylate-acrylic acid copolymer, minimum number average molecular weight (in amu), 3,000 | None
1,6-Hexanediol dimethyacrylate polymer, minimum molecular weight (in amu), 100,000 | None
* * * * *
α-Hydro-ω-hydroxypoly(oxyethylene), minimum molecular weight (in amu), 100,000 | None
α-Hydro-ω-hydroxypoly(oxyethylene)poly (oxypropylene) poly(oxyethylene) block copolymer; the minimum poly(oxypropylene) content is 27 moles and the minimum molecular weight (in amu) is 1,900 | None
α-Hydro-ω-hydroxypoly(oxypropylene); minimum molecular weight (in amu) 2,000 | None
Lauryl methacrylate-1,6-hexanediol dimethacrylate copolymer, minimum molecular weight (in amu), 100,000 | None
* * * * *
Maleic anhydride-methyl vinyl ether, copolymer, average molecular weight (in amu), 250,000 | None
Maleic acid-butadiene copolymer | None
Maleic acid monobutyl ester-vinyl methyl ether copolymer, minimum average molecular weight (in amu), 52,000 | 25119-68-0
Maleic acid monoethyl ester-vinyl methyl ether copolymer, minimum average molecular weight (in amu), 46,000 | 25087-06-3
Maleic acid monoisopropyl ester-vinyl methyl ether copolymer, minimum average molecular weight (in amu), 49,000 | 31307-95-6
* * * * *
Methyl methacrylate-2-sulfoethyl methacrylate-dimethylaminoethylmethacrylate-glycidyl methacrylate-styrene-2-ethylhexyl acrylate graft copolymer, minimum average molecular weight (in amu), 9,600 | None
Methyl vinyl ether-maleic acid copolymer), minimum number average molecular weight (in amu), 75,000 | 25153-40-6
Methyl vinyl ether-maleic acid copolymer, calcium sodium salt, minimum number average molecular weight (in amu), 900,000 | 62386-95-2
Monophosphate ester of the block copolymer α-hydro-ω-hydroxypoly(oxyethylene) poly(oxypropylene) poly(oxyethylene); the poly(oxypropylene) content averages 37-41 moles, average molecular weight (in amu), 8,000 | None
α-(p-Nonylphenyl-ω-hydroxypoly(oxypropylene) block polymer with poly(oxyethylene); polyoxypropylene content of 10-60 moles; polyoxyethylene content of 10-80 moles; molecular weight (in amu), 1,200-7,100. | None
α-(p-Nonylphenyl)poly(oxypropylene) block polymer with poly(oxyethylene); poly oxyethylene content 30 to 90 moles; molecular weight (in amu) averages 3,000 | None
Octadecanoic acid, 12-hydroxy-, homopolymer, octadecanoate minimum number average molecular weight (in amu), 1,370 | 58128-22-6),
α-cis-9-Octadecenyl-ω-hydroxypoly(oxyethylene); the octadecenyl group is derived from oleyl alcohol and the poly(oxyethylene) content averages 20 moles | None
Octadecyl acrylate-acrylic acid copolymer, octadecyl acrylate-dodecyl acrylate-acrylic acid copolymer, octadecyl methacrylate-butyl acrylate-acrylic acid copolymer, octadecyl methacrylate-hexyl acrylate-acrylic acid copolymer, octadecyl methacrylate-dodecyl acrylate-acrylic acid copolymer, or octadecyl methacrylate-dodecyl methacrylate-acrylic acid copolymer, minimum number average molecular weight (in amu) 3,000 | None
Oleic acid diester of α-hydro-ω-hydroxypoly(oxyethylene); the poly(oxyethylene), average molecular weight (in amu), 2,300 | None
Polyamide polymer derived from sebacic acid, vegetable oil acids with or without dimerization, terephthalic acid and/or ethylenediamine | None
* * * * *
Polyethylene, oxidized, minimum number average molecular weight (in amu), 1,200 | None
* * * * *
Polymethylene polyphenylisocyanate, polymer with ethylene diamine, diethylene triamine and sebacoyl chloride, cross-linked; minimum number average molecular weight (in amu), 100,000 | None
Polyoxyethylated primary amine (C14-C18); the fatty amine is derived from an animal source and contains 3% water; the poly(oxyethylene) content averages 20 moles | None
Polyoxyethylated sorbitol fatty acid esters; the polyoxyethylated sorbitol solution containing 15% water is reacted with fatty acids limited to C12, C14, C16, and C18, containing minor amounts of associated fatty acids; the poly(oxyethylene) content averages 30 moles. | None
Poly(oxyethylene/oxypropylene) monoalkyl (C6-C10) ether sodium fumarate adduct, minimum number average molecular weight (in amu), 1,900 | 102900-02-7
Polyoxymethylene copolymer, minimum number average molecular weight (in amu), 15,000 | None
Poly(oxypropylene) block polymer with poly(oxyethylene), molecular weight (in amu), 1,800-16,000 | None
Poly(phenylhexylurea), cross-linked, minimum average molecular weight (in amu), 36,000 | None
Polypropylene | 9003-07-0
Polystyrene, minimum number average molecular weight (in amu), 50,000 | 9003-53-6
Polytetrafluoroethylene | 9002-84-0
Polyvinyl acetate, minimum molecular weight (in amu), 2,000 | None
Polyvinyl acetate--polyvinyl alcohol copolymer, minimum number average molecular weight (in amu), 50,000 | 25213-24-5
Polyvinyl alcohol | 9002-89-5
Polyvinyl chloride | None
* * * * *
Poly(vinylpyrrolidone), minimum number average molecular weight (in amu), 4,000 | 9003-39-8
Poly(vinylpyrrolidone-1-eicosene), minimum average molecular weight (in amu), 3,000 | 28211-18-9
Poly(vinylpyrrolidone-1-hexadecene), minimum average molecular weight (in amu), 4,700 | 63231-81-2
* * * * *
Sodium polyflavinoidsulfonate, consisting chiefly of the copolymer of catechin and leucocyanidin | None
Stearyl methacrylate-1,6-hexanediol dimethacrylate copolymer, minimum molecular weight (in amu), 100,000 | None
Styrene-2-ethylhexyl acrylate-glycidyl methacrylate-2-acrylamido-2-methylpropanesulfonic acid graft copolymer, minimum number average molecular weight (in amu), 12,500 | None
* * * * *
Styrene-maleic anhydride copolymer | None
Styrene-maleic anhydride copolymer, ester derivative | None
Tetradecyl acrylate-acrylic acid copolymer, minimum number average molecular weight (in amu), 3,000 | None
* * * * *
α-[p-(1,1,3,3-Tetramethylbutyl)phenyl] poly(oxypropylene) block polymer with poly(oxyethylene); the poly(oxypropylene) content averages 25 moles, the poly(oxyethylene) content averages 40 moles, the molecular weight (in amu) averages 3,400 | None
α-[2,4,6-Tris[1-(phenyl)ethyl]phenyl]-ω-hydroxy poly(oxyethylene) poly(oxypropylene) copolymer, the poly(oxypropylene) content averages 2-8 moles, the poly(oxyethylene) content averages 16-30moles, average molecular weight (in amu), 1,500 | None
Urea-formaldehyde copolymer, minimum average molecular weight (in amu), 30,000 | 9011-05-6
Vinyl acetate-allyl acetate-monomethyl maleate copolymer, minimum average molecular weight (in amu), 20,000 | None
Vinyl acetate-ethylene copolymer, minimum number average molecular weight (in amu), 69,000 | 24937-78-8
* * * * *
Vinyl acetate-vinyl alcohol-alkyl lactone copolymer, minimum number average molecular weight (in amu), 40,000; minimum viscosity of 18 centipoise | None
Vinyl alcohol-disodium itaconate copolymer, minimum average molecular weight (in amu), 50,290 | None
Vinyl alcohol-vinyl acetate-monomethyl maleate, sodium salt-maleic acid, disodium salt-γ-butyrolactone acetic acid, sodium salt copolymer, minimum number average molecular weight (in amu), 20,000 | None
Vinyl chloride-vinyl acetate copolymers | None
Vinyl pyrrolidone-dimethylaminoethylmethacrylate copolymer, minimum number average molecular weight (in amu), 20,000 | 30581-59-0
* * * * *
Vinyl pyrrolidone-styrene copolymer | 25086-29-7

§ 180.1001 [Amended]

3. Section 180.1001 is amended as follows:

i. The table in paragraph (c) is amended by removing the entries listed below:

Inert ingredients | Limits | Uses
Acrylamide potassium acrylate--acrylic acid copolymer, cross-linked (CAS Reg. No. 31212-13-2), minimum number average molecular weight (in atomic mass units (amu)) 1,000,000. | ................ | Carrier
Acrylic acid--stearyl methacrylate copolymer (CAS Reg. No. 27756-15-6), minimum number average molecular weight (in amu) 2,500. | ................ | Emulsifier, suspending agent, or rheology modifier
α-Butyl-ω-hydroxypoly(oxypropylene) block polymer with poly(oxyethylene); molecular weight (in amu) 2,400-3,500. | ................ | Surfactants, related adjuvants of surfactants
Castor oil, polyoxyethylated; the poly(oxyethylene) content averages 5-54 moles. | ................ | Surfactants, related adjuvants of surfactants
1,12-Dodecanediol dimethacrylate polymer. | Minimum molecular weight (in amu) 100,000. | Release rate regulator in pheromone formulation
Ethylene glycol dimethyacrylate--lauryl methacrylate copolymer. | Minimum molecular weight (in amu) 100,000. | Release rate regulator in pheromone formulation
Ethylene glycol dimethacrylate polymer. | Minimum molecular weight (in amu) 100,000. | Release rate regulator in pheromone formulation
1,6-Hexanediol dimethyacrylate polymer. | Minimum molecular weight (in amu) 100,000. | Release rate regulator in pheromone formulation
α-Hydro-ω-hydroxypoly(oxypropylene); molecular weight (in amu) 4,000. | ................ | Do.
Lauryl methacrylate--1,6-hexanediol dimethacrylate copolymer. | Minimum molecular weight (in amu) 100,000. | Release rate regulator in pheromone formulation
Maleic acid monobutyl ester--vinyl methyl ether copolymer, CAS No. 25119-68-0, minimum average molecular weight (in amu) 52,000. | ................ | Seed-coating adhesive, gel, and antitranspirant
Maleic acid monoethyl ester--vinyl methyl ether copolymer, CAS No. 25087-06-3, minimum average molecular weight (in amu) 46,000. | ................ | Seed-coating adhesive, gel, and antitranspirant
Maleic acid monoisopropyl ester-vinyl methyl ether copolymer, CAS No. 31307-95-6, minimum average molecular weight (in amu) 49,000. | ................ | Seed-coating adhesive, gel, and antitranspirant
Methyl vinyl ether--maleic acid copolymer (CAS Reg. No. 25153-40-6), minimum number average molecular weight (in amu) 75,000. | ................ | Dispersant, seed-coating adhesive
Methyl vinyl ether--maleic acid copolymer calcium sodium salt (CAS Reg. No. 62386-95-2), minimum number average molecular weight (in amu) 900,000. | ................ | Dispersant, seed-coating adhesive
α-(p-Nonylphenyl) poly(oxypropylene) block polymer with poly(oxyethylene); polyoxyethylene content 30 to 90 moles; molecular weight (in amu) averages 3,000. | ................ | Do.
α-(p-Nonylphenyl-ω-hydroxypoly(oxypropylene) block polymer with poly(oxyethylene); polyoxypropylene content of 10-60 moles; polyoxyethylene content of 10-80 moles; molecular weight (in amu) 1,200-7,100. | ................ | Do.
Octadecanoic acid, 12-hydroxy-, homopolymer, octadecanoate (CAS Reg. No. 58128-22-6), minimum number-average molecular weight 1,370. | ................ | dispersing agent, related adjuvant of surfactants, surfactant, suspending agent
α-cis-9-Octadecenyl-ω-hydroxypoly(oxyethylene); the octadecenyl group is derived from oleyl alcohol and the poly(oxyethylene) content averages 20 moles. | ................ | Surfactants, related adjuvants of surfactants
Polyethylene, oxidized, conforming to 21 CFR 172.260. | ................ | Coating agent
Polymers derived from the following monomers: acrylic acid, sodium form; butyl acrylate; ethyl acrylate; methacrylic acid and its ammonium and potassium salts; and methyl methacrylate | ................ | Surfactants, related adjuvants of surfactants
Polymerized sodium methacrylate. | ................ | pH control
Poly(oxyethylene/ oxypropylene) monoalkyl(C6- C10) ether sodium fumarate adduct (CAS Reg. No. 102900-02-7), minimum number average molecular weight (in amu) 1,900. | ................ | Surfactant
Poly(oxypropylene) block polymer with poly(oxyethylene); molecular weight (in amu) 1,800-16,000. | ................ | Do.
Polystyrene (CAS Reg. No. 9003-53-6), minimum number average molecular weight (in amu) 50,000). | ................ | Suspending agent, thickener
Poly(vinylpyrrolidone) (CAS Reg. No. 9003-39-8), minimum number average molecular weight (in amu) 4,000. | ................ | Surfactant, related adjuvants of surfactant
Poly(vinylpyrrolidone-1-eicosene) (CAS Reg. No. 28211-18-9). | Minimum average molecular weight 3,000. | Dispersing agent
Poly(vinylpyrrolidone-1-hexadecene) (CAS Reg. No. 63231-81-2). | Minimum average molecular weight (in amu) 4,700 | Dispersing agent
Stearyl methacrylate--1,6-hexanediol dimethacrylate copolymer. | Minimum molecular weight (in amu) 100,000. | Release rate regulator in pheromone formulation
Styrene-2-ethylhexyl acrylate-glycidyl methacrylate-2-acrylamido-2-methylpropanesulfonic acid graft copolymer, minimum number average molecular weight 12,500. | ................ | Dispersing agent/solvent
Vinyl pyrrolidone-dimethylaminoethylmethacrylate copolymer (CAS Reg. No. 30581-59-0), minimum number average molecular weight (in amu) 20,000. | ................ | Leaching inhibitor, binder for water-dispersible aggregates, sticker and suspension stabilizer

ii. Section 180.1001 is further amended by removing from the table in paragraph (d) the entries listed below:

Inert ingredients | Limits | Uses
Acetic acid ethenyl ester, polymer with ethenol and (α)-2-propenyl-(ω)-hydroxypoly (oxy-1,2-ethanediyl) (CAS Reg. No.137091-12-4); minimum number average molecular weight 15,000. | ................ | Component of water-soluble film
Acrylamide--acrylic acid resins | ................ | Thickeners
Acrylamide--sodium acrylate resins | ................ | Do.
Acrylic acid, polymerized, and its ethyl and methyl esters | ................ | Surfactants, related adjuvants of surfactants
Acrylic acid--sodium acrylate--sodium-2-methylpropanesulfonate copolymer (minimum average molecular weight (in amu) 4,500); CAS No. 97953-25-8. | ................ | Dispersing agent
Acrylonitrile--styrene-hydroxypropyl methacrylatecopolymer; minimum number average molecular weight (in amu) 447,000. | ................ | Pigment carrier
Alkyl (C12-C20) methacrylate-methacrylic acid copolymer; minimum molecular weight (in amu) 11,900. | ................ | Stabilizer; component of spray drift retardant
3,5-Bis(6-isocyanatohexyl)-2H-1,3,5-oxadiazine-2,4,6-(3H,5H)-trione, polymer with diethylenetriamine (CAS Reg. No. 87823-33-4); minimum number average molecular weight (in amu) 1,000,000. | ................ | Encapsulating agent
Butadiene-styrene copolymer | ................ | Adhesive, component of adhesive
2-Butenedioic acid (Z)-, polymer with ethenol and ethenyl acetate, sodium salt (minimum number averagemolecular weight (in amu) 75,000; CAS No. 139871-83-3). | ................ | Component of water-soluble film
Cross-linked polyurea-type encapsulating polymer formed by the reduction of a mixture of toluene diisocyanate and polymethylene polyphenylisocyanate | ................ | Encapsulating agent
Fumaric acid--isophthalic acid--styrene--ethylene/propylene glycol copolymer (minimum average molecular weight (in amu) 1 x 10¹⁸). | ................ | Encapsulating agent
α-Hydro-ω-hydroxypoly(oxyethylene); molecular weight (in amu) 100,000 minimum. | ................ | Carrier
α-Hydro-ω-hydroxypoly(oxypropylene) (mol. wt. 2,000). | ................ | Component of defoamers
Maleic acid--butadiene copolymer. | 3% of pesticide formulation | Surfactants, related adjuvants surfactants
Maleic anhydride--methyl vinyl ether, copolymer; average molecular weight (in amu) 250,000. | ................ | Do.
Methyl methacrylate-2-sulfoethyl methacrylate-dimethylaminoethyl methacrylate-glycidyl methacrylate-styrene-2-ethylhexyl acrylate graft copolymer (minimum average molecular weight (in amu) 9,600). | ................ | Carrier
Monophosphate ester of the block copolymer α-hydro-ω-hydroxypoly(oxyethylene)poly(oxypropylene)poly(oxyethylene); the poly(oxypropylene) content averages 37-41 moles, and the molecular weight (in amu) averages 8,000. | ................ | Do.
Polymethylene polyphenylisocyanate, polymer with ethylene diamine, diethylene triamine and sebacoyl chloride, cross-linked; minimum number average molecular weight 100,000. | ................ | Encapsulating agent
Poly(phenylhexylurea), cross-linked; minimum average molecular weight 36,000. | ................ | Encapsulating agent
Polyvinyl acetate (as defined in 21 CFR 172.615). | ................ | Adhesive
Polyvinyl acetate--polyvinyl alcohol copolymer (CAS Reg. No. 25213-24-5). | Minimum number average molecular weight (in amu) 50,000. | Component of water-soluble film
Polyvinyl alcohol | ......................... | Binder; water soluble bag-container or film-tape for encapsulating seeds
α-[p-(1,1,3,3-Tetramethylbutyl)phenyl] poly(oxypropylene) block polymer with poly(oxyethylene); the poly(oxypropylene) content averages 25 moles, the poly(oxyethylene) content averages 40 moles, the molecular weight (in amu) averages 3,400. | ................ | Do.
Vinyl acetate--allyl acetate--monomethyl maleate copolymer (minimum average molecular weight (in amu) 20,000). | ................ | Component on water-soluble film
Vinyl acetate--ethylene copolymer (CAS Reg. No. 24937-78-8); minimum number average molecular weight (in amu) 69,000. | ................ | Component of water-soluble film
Vinyl acetate--vinyl alcohol--alkyl lactone copolymer. | Minimum estimated number average molecular weight (in amu) 40,000; minimum viscosity of 18 centipoise. | Component of water-soluble film
Vinyl alcohol--disodium itaconate copolymer (minimum average molecular weight (in amu) 50,290). | ................ | Component of water-soluble film
Vinyl alcohol--vinyl acetate--monomethyl maleate, sodium salt--maleic acid, disodium salt-γ-butyrolactone acetic acid, sodium salt copolymer, minimum number average molecular weight (in amu) 20,000. | ................ | Carrier
Oleic acid diester of α-hydro-ω-hydroxypoly(oxyethylene); the poly(oxyethylene) molecular weight (in amu) averages 2,300. | ................ | Surfactant
Polyethylene, oxidized (as defined in 21 CFR 172.260(a)). | ................ | Surfactants, related adjuvants of surfactants
Polyoxyethylated primary amine (C14-C18); the fatty amine is derived from an animal source and contains 3% water; the poly(oxyethylene) content averages 20 moles. | Applied prior to planting of any crop, or as directed spray around the base of any crop. | Surfactant
Polyvinylpyrrolidone, butylated. | ................ | Surfactants, related adjuvants of surfactants
Sodium polyflavinoidsulfonate, consisting chiefly of the copolymer of catechin and leucocyanidin. | ................ | Sunscreen agent for viral insecticides for use on cotton
Styrene--maleic anhydride copolymer | For preemergence use only. | Suspending or dispersing agent
Styrene--maleic anhydride copolymer, ester derivative. | Limited to 3% of the formulation. | Suspending or dispersing agent. For pre-emergence use and use prior to formation of edible parts of plant
α-[2,4,6-Tris[1-(phenyl)ethyl]phenyl]-ω-hydroxy poly(oxyethylene) poly(oxypropylene) copolymer, the poly(oxypropylene) content averages 2-8 moles, the poly(oxyethylene) content averages 16-30 moles, and the average molecular weight (in amu) is 1,500. | Not more than 15% in the pesticide formulation. | Do.
Urea--formaldehyde copolymer (minimum average molecular weight (in amu) 30,000); CAS No. 9011-05-6. | ................ | Encapsulating agent
Vinyl chloride--vinyl acetate copolymers. | Not more than 2% of pesticide formulation | Inert binding agent for formulation applied only to soil.
Vinylpyrrolidone--styrene copolymer (CAS Reg. No. 25086-29-7). | Not to exceed 2% of the formulation. | Opacifier

iii. Section 180.1001 is further amended by removing the following entries from the table in paragraph (e):

Inert ingredients | Limits | Uses
Acrylic acid--stearyl methacrylate copolymer (CAS Reg. No. 27756-15-6), minimum number average molecular weight (in amu) 2,500. | ................ | Emulsifier, suspending agent, or rheology modifier
Acrylonitrile--butadiene copolymer (CAS Reg. No. 9003-18-3) conforming to 21 CFR 180.22, minimum average molecular weight (in amu) 1,000. | ................ | Carrier in animal tag and similar slow-release devices
α-Butyl-ω-hydroxypoly (oxypropylene) block polymer with poly(oxyethylene); molecular weight (in amu) 2,400-3,500. | ................ | Surfactants,emulsifier, related adjuvants of surfactants.
1,4-Butanediol-methylenebis(4-phenylisocyanate)-poly(tetramethylene glycol) copolymer (CAS Reg. No. 9018-04-6); minimum molecular weight (in amu) 158,000. | ................ | Solid diluent; carrier
Castor oil, polyoxyethylated; the poly(oxyethylene) content averages 5-54 moles. | ................ | Surfactants, related adjuvants of surfactants
Castor oil, polyoxyethylated; the poly(oxyethylene) content averages 40 moles. | ................ | Surfactants, related adjuvants of surfactants
Chlorinated polyethylene (CAS Reg. No. 64754-90-1). | ................ | Resin, component animal tag
Cross-linked polyurea-type encapsulating polymer. | ................ | Encapsulating agent
1,2 Ethanediamine, polymer with oxirane and methyloxirane (CAS Reg. No. 26316-40-5) minimum number average molecular weight 2,800 and the range of number average molecular weight is 2,800 to 10,000 daltons. | ................ | Surfactant, dispersing agent
α-Hydro-ω-hydroxypoly (oxypropylene); molecular weight (in amu) 2,000. | ................ | Surfactants, related adjuvants of surfactants
α-Hydro-ω-hydroxypoly (oxyethylene)poly (oxypropylene) poly(oxyethylene) block copolymer; the minimum poly(oxypropylene) content is 27 moles and the minimum molecular weight (in amu) is 1,900. | ................ | Surfactant, wetting agent
Maleic acid monobutyl ester--vinyl methyl ether copolymer, CAS No. 25119-68-0, minimum average molecular weight (in amu) 52,000. | ................ | Seed-coating adhesive, gel, and antitranspirant
Maleic acid monoethyl ester--vinyl methyl ether and copolymer, CAS No. 25087-06-3, minimum average molecular weight (in amu) 46,000. | ................ | Seed-coating adhesive gel, antitranspirant.
Maleic acid monoisopropyl ester--vinyl methyl ether copolymer, CAS No. 31307-95-6, minimum average molecular weight (in amu) 49,000. | ................ | Seed-coating adhesive gel, antitranspirant.
Methyl vinyl ether--maleic acid copolymer (CAS Reg. No. 25153-40-6), minimum number average molecular weight (in amu) 75,000. | ................ | Dispersant
Methyl vinyl ether--maleic acid copolymer calcium sodium salt (CAS Reg. No. 62386-95-2), minimum number average molecular weight (in amu) 900,000. | ................ | Dispersant
α-(p-Nonylphenyl)poly(oxypropylene) block polymer with poly(oxyethylene); polyoxyethylene content 30 to 90 moles; molecular weight (in amu) averages 3,000. | ................ | Do.
α-(p-Nonylphenyl)-ω-hydroxypoly(oxypropylene) block polymer with poly(oxyethylene); polyoxypropylene content of 20-60 moles; polyoxyethylene content of 30-80 moles; molecular weight (in amu) 2,100-7,100. | ................ | Surfactants, related adjuvants of surfactants
α-cis-9-Octadecenyl-ω-hydroxypoly (oxyethylene); the octadecenyl group is derived from oleyl alcohol and the poly(oxyethylene) content average 20 moles. | ................ | Do.
Polyacrylic acid | ................ | Surfactants, related adjuvants of surfactants
Polyoxyethylated sorbitol fatty acid esters; the polyoxyethylated sorbitol solution containing 15% water is reacted with fatty acids limited to C12, C14, C16, and C18 containing minor amounts of associated fatty acids; the poly(oxyethylene) content averages 30 moles. | ................ | Do.
Poly(oxypropylene) block polymer with poly(oxyethylene); molecular weight (in amu) 1,800-9,000. | ................ | Do.
Polypropylene (CAS Reg. No. 9003-07-0). | ................ | Carrier, component of plastic slow-release tag
Polystyrene (CAS Reg. No. 9003-53-6), minimum number average molecular weight (in amu) 50,000). | ................ | Suspending agent, thickener
Polytetrafluoroethylene (CAS Reg. No. 9002-84-0). | ................ | Component of plastic slow release tag
Polyvinyl alcohol (CAS Reg. No. 9002-89-5). | ................ | Surfactant
Polyvinyl chloride | ................ | Solid diluent, carrier
Vinyl pyrrolidone--dimethylaminoethylmethacrylate copolymer (CAS Reg. No. 30581-590), minimum number average molecular weight (in amu) 20,000. | ................ | Leaching inhibitor, binder for water-dispersible aggregates, sticker and suspension stabilizer

§§ 180.1028, 180.1038, 180.1053, 180.1060, and 180.1112 [Removed]

4. Sections 180.1028, 180.1038, 180.1053, 180.1060, and 180.1112 are removed.

[FR Doc. 03-4384 Filed 2-25-03; 8:45 am]

BILLING CODE 6560-50-S